DEPARTMENT OF THE INTERIOR

Bureau of Land Management

[CA-310-0777-XX]

Notice of Public Meeting: Northeast California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northeast California Resource Advisory Council will meet as indicated below.

DATES: The field tour and meeting will be held Thursday and Friday, May 31 and June 1, 2007, at the Veteran's Memorial Building on Main Street in Burney, California. On May 31, the field tour to a mining operation leaves from the Memorial Building at 10 a.m. and returns at 5 p.m. On June 1, the business meeting runs from 8 a.m. to 3 p.m. Time for public comment is reserved at 11 a.m. on Friday, June 1.

FOR FURTHER INFORMATION CONTACT: Tim Burke, BLM Alturas Field Office manager, (530) 233-4666; or BLM Public Affairs Officer Joseph J. Fontana, (530) 252-5332.

SUPPLEMENTARY INFORMATION: The 15-member council advises the Secretary of the Interior, through the BLM, on a variety of planning and management issues associated with public land management in Northeast California and the northwest corner of Nevada. At this meeting, agenda topics will include updates on new resource management plans now under development for northeast California field offices, a report on a management plan for improving sagebrush steppe ecosystems, a report on wind energy proposals, an update on free firewood cutting areas, field office status and accomplishment reports, and an update on a BLM reorganization study. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: March 13, 2007.
Joseph J. Fontana,
Public Affairs Officer.

[FR Doc. 07-1326 Filed 3-19-07; 8:45 am]

BILLING CODE 4310-40-M